DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Mammal Health and Stranding Response Program Survey for Stranding Network Participants.

OMB Control Number: None.

Form Number(s): None.

Type of Request: Regular submission.

Burden Hours: 294.

Number of Respondents: 294.

Average Hours per Response: 1.

Needs and Uses: The National Marine Fisheries Service's (NMFS) Marine Mammal Health and Stranding Response Program will conduct program evaluations of the six NMFS regional stranding networks: Northeast, Southeast, Southwest, Northwest, Alaska, and Pacific Islands Regions. A survey will be used to gather data from a cross-section of stranding network participants in each region. The data will be collected regarding performance, organizational structure, objectives, and needs of the program. The information will be used to prioritize and discuss issues of concern and assist with future program management and planning.

Affected Public: Not-for-profit institutions.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov .

Dated: August 7, 2008.
Gwellnar Banks,
Management Analyst, Office of the Chief Information Officer.

[FR Doc. E8-18552 Filed 8-11-08; 8:45 am]

BILLING CODE 3510-22-P